DEPARTMENT OF LABOR

Proposed Extension With Revisions of a Currently Approved Information Collection for Registered Apprenticeship Program Data (ETA Form 671)

AGENCY: Employment and Training Administration.

ACTION: Notice.

SUMMARY: The U.S. Department of Labor, as part of its continuing effort to reduce paperwork and respondent burden conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed revision of the collection of information on the registered apprenticeship program (ETA Form 671) under Title 29 CFR Part 29 (Labor Standards for the Registration of Apprenticeship Programs).

A copy of the proposed information collection request (ICR) can be obtained by contacting the office listed below in the addressee section of this notice or by accessing: http://www.doleta.gov/OMBCN/OMBControlNumber.cfm.

DATES: Written comments must be submitted to the office listed in the addressee's section below on or before August 29, 2008.

ADDRESSES: Submit written comments to the Employment and Training Administration, U.S. Department of Labor, 200 Constitution Avenue, NW., Room N-5311, Washington, DC 20210, Attention: John V. Ladd, Telephone number: 202-693-2796 (this is not a toll-free number). Fax: 202-693-2808. E-mail: ladd.john@dol.gov.

SUPPLEMENTARY INFORMATION:

I. Background

The National Apprenticeship Act of 1937 authorizes and directs the Secretary of Labor to formulate and promote the furtherance of labor standards necessary to safeguard the welfare of apprentices, to extend the application of such standards by encouraging the inclusion thereof in contracts of apprenticeship, to bring together employers and labor for the formulation of programs of apprenticeship, to cooperate with State agencies engaged in the formulation and promotion of standards of apprenticeship, and to cooperate with the Secretary of Education (29 U.S.C. 50). Section 50a of the Act authorizes the Secretary of Labor to publish information relating to existing and proposed labor standards of apprenticeship, and to appoint national advisory committees (29 U.S.C. 50a).

Title 29 CFR Part 29 sets forth labor standards to safeguard the welfare of apprentices, and to extend the application of such standards by prescribing policies and procedures concerning registration, for certain Federal purposes, of acceptable apprenticeship programs with the U.S. Department of Labor, Employment and Training Administration, Office of Apprenticeship (formerly known as the Office of Apprenticeship Training, Employers and Labor Services and previously as the Bureau of Apprenticeship and Training). These labor standards, policies and procedures cover: Registration of apprenticeship programs and apprenticeship agreements; the recognition of a State agency as the appropriate agency for registering local apprenticeship programs for certain Federal purposes; and matters relating thereto.

Title 29 CFR Part 30 sets forth policies and procedures to promote equality of opportunity in apprenticeship programs registered with the U.S. Department of Labor and recognized State Apprenticeship Agencies. These policies and procedures apply to recruitment and selection of apprentices, and to all conditions of employment and training during apprenticeship. The procedures provide for review of apprenticeship programs, for registering apprenticeship programs, for processing complaints, and for deregistering non-complying apprenticeship programs. This part also provides policies and procedures for continuation or withdrawal of recognition of State agencies which register apprenticeship programs for Federal purposes.

The information collection instrument for this request is ETA Form 671 (ETA Program Registration, section I, and Apprentice Registration, section II). The Apprentice Registration section II electronic instrument has been widely accepted, used by more than 50 percent of new apprentice registrations. With the redesign of the Registered Apprenticeship Partners Information Data System (RAPIDS), formerly known as the Registered Apprenticeship Information System (RAIS), Program Registration section I provides for electronic program registration by the program sponsor. Therefore the Office of Apprenticeship seeks to revise these two sections of ETA Form 671 to facilitate the registration of programs and apprentices. This ICR seeks a three-year approval.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Recordkeeping and data collection activities regarding registered apprenticeship are by-products of the registration system. Organizations which apply for apprenticeship sponsorship enter into an agreement with the Federal Government or cognizant State government to operate their proposed programs consistent with 29 CFR Parts 29 and 30. Apprenticeship sponsors are not required to file reports regarding their apprentices other than to register individuals and to update information as an apprentice moves through their program. This revision request includes the request to collect the employer identification number (EIN) of the program sponsor (on a voluntary basis) when registering a program. The EIN is an Internal Revenue Service Federal tax identification number that is used to identify a business entity. Including this number during the program registration ensures that the business is legitimate with the intention of maintaining a registered program and safeguards the welfare and training of apprentices. The additional program information requested meets the requirements for apprenticeship program registration in accordance with Title 29 CFR Parts 29 and 30. The primary headings are as follows: Program Sponsor Information; Program Registration Information, Program-related Sponsor Contact Information, Occupation Information, Wage Record Under Journeyworkers Employed, Related Technical Instruction Information (RTI) and RTI Source Information. The additions to the currently approved Program Registration in Section I are mostly routine information such as the identification of the entities, their addresses, telephone numbers, e-mail addresses, fax numbers and Web site addresses. Definitions and instructions are also included. Where necessary, this information will be repopulated electronically from the apprenticeship database to the revised Apprentice Registration section II, Part B: Sponsor field area. Other additions or changes to Apprentice Registration section II include the following: Added under Career Linkage or Direct Entry, the data fields Trade Adjustment and YouthBuild Programs and updated the justification for requesting the Apprentice Social Security Number. These sections, Program Registration and Apprentice Registration, are used at different times, for different purposes, and with different individuals or entities. The information is not duplicative. The Apprenticeship and Training Representative will be available upon request to provide full technical assistance and services to those program sponsors and apprentices who do not have computer technology available. The decrease of 34,535 burden hours (from 55,632 to 26,757) reported in the previous ICR is due to the response time change from 15 minutes to 5 minutes in the Apprentice Registration section II instrument.

Finally, OMB's October 27, 2005 approval for this ICR requested that the database incorporate the latest classification systems as soon as practicable. It also directed that future ICRs for this collection must explain the actions taken to move in that direction. In response, the Office of Apprenticeship incorporated the North American Industry Classification System in its re-engineered database, RAPIDS, formerly known as RAIS, on February 2, 2008.

Type of Review: Revisions to ETA Form 671.

Agency: Employment and Training Administration.

Title: Labor Standards for the Registration of Apprenticeship Programs.

OMB Number: 1205-0223.

Recordkeeping: Data retention is consistent with 5 CFR 1320.5. However, a records retention requirement of five years is necessary. The duration of many apprenticeship programs is four years or more, and it is important to keep the records for a period of time after an apprentice has left the program.

Affected Public: Program Sponsors, State Apprenticeship Councils or Agencies, Applicants, Apprentices, Tribal Governments.

Form: ETA Form 671, Program Registration section I and Apprentice Registration section II.

Total Respondents: 248,728.

Estimated Total Burden Hours: 26,757.

Total Burden Cost: 0.

Summary Table
Requirement ETA Form 671 | Sec. | Total respondents | Frequency | Annual responses | Average response time | Burden hours
Section I | 29.3 | 1,500 | 1-time basis | 1,500 | .166 hr/sponsor | 249
Section II | 29.3 | 144,000 | 1-time basis | 144,000 | .083 hr/apprentice | 11,952
| 29.6 | 100,000 | 1-time basis | 100,000 | .083 hr/apprentice | 8,300
| 29.5 | 1,500 | 1-time basis | 1,500 | 2 hrs/sponsor 2 hrs/SAC | 3,000
|  | 1,600 | 1-time basis | 1,600 | 2 hrs/SAC | 3,200
| 29.12 | (30) | 1-time basis | (30) | 0 hrs | 0
| 29.12 | Accomplished in 1977; no new state agency expected in 2008.
| 29.12 | 28 | 1-time basis | 28 | 2 hrs. SAC | 56
| 29.13 | 0 | 1-time basis | 0 | 0 | 0
Total |  | 248.728 |  | 248.728 |  | 26.757

Comments submitted in response to this comment request will be summarized and/or included in the request for Office of Management and Budget approval of the information collection request; they will also become a matter of public record.

Dated: June 19, 2008.
John V. Ladd,
Administrator, Office of Apprenticeship, Employment and Training Administration.

[FR Doc. E8-14707 Filed 6-27-08; 8:45 am]

BILLING CODE 4510-FR-P